DEPARTMENT OF HEALTH AND HUMAN SERVICES

Centers for Disease Control and Prevention

[30Day-12-0566]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC at (404) 639-7570 or send an email to omb@cdc.gov. Send written comments to CDC Desk Officer, Office of Management and Budget, Washington, DC 20503 or by fax to (202) 395-5806. Written comments should be received within 30 days of this notice.

Proposed Project

Evaluation of Worker Notification Program (0920-0566, Expiration 2/28/2011)—Reinstatement—National Institute for Occupational Safety and Health (NIOSH), Centers for Disease Control and Prevention (CDC).

Background and Brief Description

The National Institute for Occupational Safety and Health (NIOSH), under Section 20(a)(1), (a)(4), (a)(7)(c), and Section 22(d), (e)(5)(7) of the Occupational Safety and Health Act (29 U.S.C. 669), “has the responsibility to conduct research relating to occupational safety and health relating to innovative methods, techniques, and approaches for dealing with occupational safety and health problems.” Although the research studies continued, the notification activities were discontinued after the extension ICR was not submitted to OMB before the original expiration date.

Since the Right to Know movement in the late 1970s, NIOSH has been developing methods and materials to notify subjects of its epidemiological studies. Within NIOSH, notifying workers of past exposures is done to inform surviving cohort members of findings from NIOSH studies. Current NIOSH policy dictates how and when worker notification should occur. The extent of the notification effort depends upon the level of excess mortality or the extent of the disease or illness found in the study population. Current notification efforts range from posting results at the facilities studied to mailing individual letters to surviving members of the study population and other stakeholders. Each year, the NIOSH Industrywide Studies Branch (IWSB), Division of Surveillance, Hazard Evaluation, and Field Studies (DSHEFS) typically prepares materials for two to three completed studies. This often requires individual letters be mailed to study populations ranging in size from 200-20,000 workers each. An evaluation instrument would gauge the effectiveness of notification materials and improve future communication of risk information.

The purpose of the proposed Reader Response Postcard is to obtain feedback from workers that would improve the quality and usefulness of the Institute's worker notification activities. The actual number of notifications required in a given year cannot be known in advance. Each year, the NIOSH IWSB, DSHEFS, typically prepares materials for two to three completed studies. This often requires individual letters be mailed to study populations ranging in size from 200-20,000 workers each, averaging 8,000/yr. Researchers from NIOSH propose to routinely include a Reader Response postcard with notification materials to assess the value and usefulness of said materials. The Reader Response postcard was tested internally and the average time to complete was 10 minutes. We are requesting approval for three years. Participation is voluntary and there is no cost to respondents except for their time. The total estimated annual burden hours are 1,333.

Estimated Annualized Burden Hours
Form name | Number of respondents | Number of responses | Avg. burden per response (hours)
Reader Response Card | 8,000 | 1 | 10/60

Kimberly S. Lane,
Deputy Director, Office of Scientific Integrity, Office of the Associate Director for Science, Office of the Director, Centers for Disease Control and Prevention.

[FR Doc. 2012-11871 Filed 5-15-12; 8:45 am]

BILLING CODE 4163-18-P